DEPARTMENT OF COMMERCE

International Trade Administration

[A-560-826]

Monosodium Glutamate From the Republic of Indonesia: Final Results of the First Full Five-Year Sunset Review of the Antidumping Duty Order

AGENCY: Enforcement and Compliance, International Trade Administration, Department of Commerce.

SUMMARY: The Department of Commerce (Commerce) finds that the revocation of the antidumping duty (AD) order on monosodium glutamate (MSG) from Indonesia would likely lead to continuation or recurrence of dumping at the levels indicated in the “Final Results of Review” section of this notice.

DATES: Applicable June 4, 2020.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On February 26, 2020, Commerce published the Preliminary Results of the sunset review,¹ finding that dumping was likely to continue or recur if the Order ² were revoked and determined that revocation of the Order would be likely to lead to continuation or recurrence of dumping for all exporters and producers at a weighted average margin of dumping up to 6.19 percent.³ We invited interested parties to comment on the Preliminary Results. We received a case brief from respondent, CJ Companies, on April 22, 2020.⁴ We received a rebuttal brief from Ajinomoto Health & Nutrition North America (petitioner) on April 27, 2020.⁵

¹ See Monosodium Glutamate from the Republic of Indonesia: Preliminary Results of the First Full Sunset Review of the Antidumping Duty Order, 85 FR 12517 (March 3, 2020) (Preliminary Results), and accompanying Preliminary Decision Memorandum.

² See Monosodium Glutamate from the People's Republic of China, and the Republic of Indonesia: Antidumping Duty Orders; and Monosodium Glutamate from the People's Republic of China: Amended Final Determination of Sales at Less Than Fair Value (Order), 79 FR 70505 (November 26, 2014) (Order).

³ See Preliminary Results.

⁴ See CJ Companies' Letter, “Monosodium Glutamate (“MSG”) from Indonesia; First Sunset Review; CJ {Companies'} Case Brief,” dated April 22, 2020.

⁵ See Petitioner's Letter, “Monosodium Glutamate from Indonesia, First Sunset Review: Rebuttal to Case Brief of PT. Cheil Jedang Indonesia and CJ America, Inc.,” dated April 27, 2020.

Scope of the Order

The product covered by this order is MSG, whether or not blended or in solution with other products. Specifically, MSG that has been blended or is in solution with other product(s) is included in this scope when the resulting mix contains 15 percent or more of MSG by dry weight. Products with which MSG may be blended include, but are not limited to, salts, sugars, starches, maltodextrins, and various seasonings. A full description of the scope of the Order is contained in the accompanying Issues and Decision Memorandum.⁶

⁶ See Memorandum, “Issues and Decision Memorandum for the First Full Sunset Review of the Antidumping Duty Order on Monosodium Glutamate from the People's Republic of Indonesia,” dated concurrently with this notice (Issues and Decision Memorandum).

Analysis of Comments Received

All issues raised for the final results of this sunset review are addressed in the Issues and Decision Memorandum, dated concurrently with this final notice, which is hereby adopted by this notice. The issues discussed in the Issues and Decision Memorandum are described in the Appendix. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/. The signed Issues and Decision Memorandum and the electronic version of the Issues and Decision Memorandum are identical in content.

Final Results of Review

We determine that revocation of the Order on MSG from Indonesia would be likely to lead to a continuation or recurrence of dumping at a weighted average margin of dumping of up to 6.19 percent for all exporters and producers of subject merchandise.

Administrative Protective Orders

This notice also serves as the only reminder to each party subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing the final results of this sunset review, in accordance with sections 751(c)(5)(A), 752(c), and 777(i) of the Tariff Act of 1930, as amended, and 19 CFR 351.218(f)(3).

Dated: May 28, 2020.
Jeffrey I. Kessler,
Assistant Secretary for Enforcement and Compliance.

Appendix

List of Topics Discussed in the Issues and Decision Memorandum

I. Summary

II. Background

III. Scope of the Order

IV. Discussion of the Issues

Issue 1: Likelihood of Continuation or Recurrence of Dumping

Issue 2: Magnitude of the Margin of Dumping Likely to Prevail

V. Final Results of Sunset Review

VI. Recommendation

[FR Doc. 2020-12003 Filed 6-3-20; 8:45 am]

BILLING CODE 3510-DS-P